ENVIRONMENTAL PROTECTION AGENCY

[ER-FRL-6671-6]

Environmental Impacts Statements; Notice of Availability

Responsible Agency: Office of Federal Activities, General Information (202) 564-7167 or http://www.epa.gov/compliance/nepa/. Weekly receipt of Environmental Impact Statements Filed 01/16/2006 through 01/20/2006 pursuant to 40 CFR 1506.9.

EIS No. 20060019, Final EIS, FHW, NY, Willis Avenue Bridge Reconstruction, Proposing Reconstruction of 100-year-old Willis Avenue Bridge over the Harem River between Manhattan and the Bronx, New York and Bronx Counties, NY, Wait Period Ends: 02/27/2006, Contact: Robert Arnold 518-431-4125.

EIS No. 20060020, Final EIS, COE, NC, Fort Bragg Headquarters for XVII Airborne Corps and Army Special Operations Command, To Determine the Level of Training on the Overhills Tract Program, Cumberland and Harnett Counties, NC, Wait Period Ends: 02/27/2006, Contact: Ms. Julie Morgan 888-893-0678. Ext 258.

EIS No. 20060021, Final EIS, AFS, UT, Quitchupah Creek Road Project, Public Road Construction to Provide Access from UT-10 to the Acord Lakes Road, Application for Right-of-Way Grant, Fishlake National Forest, Sevier County Special Services District (SSD), Sevier and Emery Counties, UT, Wait Period Ends: 02/27/2006, Contact: Rod Lee 435-896-1500.

EIS No. 20060022, Draft EIS, FTA, WA, South Valley Corridor Project, Improvement to Existing Urban Transportation System, Light Rail Transit (LRT), Right-of-Way Grant, City of Liberty Lake, Spokane County, WA, Comment Period Ends: 03/13/2006, Contact: John Witmer 206-220-7954.

EIS No. 20060023, Draft EIS, IBR, 00 Upper Rio Grande Basin Water Operations Review, To Develop an Integrated Plan for Water Operations at the Existing Facilities, NM, CO and TX, Comment Period Ends: 03/21/2006, Contact: Valda Terauds 505-462-3584, U.S. Department of the Interior's Bureau of Reclamation and the U.S. Department of Army Corps of Engineers are Joint Lead Agencies for the above project.

EIS No. 20060024, Draft Supplement, AFS, WI, McCaslin Project, Vegetation Management Activities that are Consistent with Direction in the Nicolet Forest Plan, New Information to Address Inadequate Disclosure of the Cumulative Effect Analysis for Six Animal and Eight Plant Species, Lakewood/Lasna District, Chequamegaon-Nicolet National Forest, Oconto and Forest Counties, WI, Comment Period Ends: 03/13/2006, Contact: Brian Quinn 715-762-5176.

EIS No. 20060025, Draft Supplement, AFS, WI, Northwest Howell Vegetation Management Project, New Information to Address Inadequate Disclosure of the Cumulative Effects Analysis for Six Animal and Two Plant Species, Eagle River-Florence Ranger District, Chequamegon-Nicole National Forest, Florence and Forest Counties, WI, Comment Period Ends: 03/13/2006, Contact: Brian Quinn 715-762-5176.

EIS No. 20060026, Draft EIS, AFS, AK, Whistle Stop Project, Provide Access to Backcountry Recreation Area on National Forest, System (NFS) Lands, on the Kenai Peninsula between Portage and Moose Pass, Chugach National Forest, Kenai Peninsula Borough, AK, Comment Period Ends: 03/13/2006, Contact: Adam McClory 907-754-2352.

EIS No. 20060027, Draft EIS, AFS, CA, Kings River Project, Proposal to Restore Historical Pre-1850 Forest Conditions, Implementation, High Sierra Ranger District, Sierra National Forest, Fresno County, CA, Comment Period Ends: 03/13/2006, Contact: Ross Peckinpah 559-855-5355.

EIS No. 20060028, Draft EIS, DOD, NM, PROGRAMMATIC—Defense Threat Reduction Agency (DTRA) Activities on White Sands Missile Range (WSMR), Implementation, NM, Comment Period Ends: 03/28/2006, Contact: Linda Woestendiek 505-846-5396.

EIS No. 20060029, Final EIS, NOA, WA, Washington State Forest Habitat Conservation Plan, Propose Issuance of Multiple Species Incidental Take Permit of 4(d) Rules, NPDES Permit, U.S. Army COE Section 10 and 404 Permits, WA, Wait Period Ends: 02/27/2006, Contact: Sally Butt 360-753-5832.

Amended Notices

EIS No. 20050448, Draft EIS, BLM, MT, Upper Missouri River Breaks National Monument Resource Management Plan, Implementation, Blaine, Chouteau, Fergus and Phillips Counties, MT, Comment Period Ends: 04/26/2006, Contact: Jerry Majerus 406-538-1924, Revision of Federal Register Notice Published on 10/28/2005: Comment Period has been Extended from 01/26/2006 to 04/26/2006.

EIS No. 20050516, Draft Supplement, DOI, 00, Upper Mississippi River National Wildlife and Fish Refuge, Comprehensive Conservation Plan, A New Alternative E: Modified Wildlife and Integrated Public Use, Implementation, MN, WI, IL and IA, Comment Period Ends: 03/06/2006, Contact: Don Hultman 507-452-4232 This document is available on the Internet at: http://www.fws.gov/midwest/planning/uppermiss/index.html Revision of Federal Register Notice Published 12/16/2005: Comment Period has been extended from 02/03/2006 to 03/06/2006.

EIS No. 20050534, Draft EIS, AFS, WA, The Summit at Snoqualmie Master Development Plan (MPD), Proposal to Ensure Long-Term Economic Viability, Mt. Baker-Snoqualmie/Okanogan-Wenatchee National Forests, King County, WA, Comment Period Ends: 02/21/2006, Contact: Larry Donovan 425-744-3403, Revision of Federal Register Notice Published 12/16/2005; CEQ Comment Date has been extended from 02/06/2006 to 02/21/2006.

EIS No. 20050554, Draft EIS, IBR, ND, Red River Valley Water Supply Project, Development and Delivery of a Bulk Water Supply to meet Long-Term Water Needs of the Red River Valley, Implementation, ND, Comment Period Ends: 02/28/2006, Contact: Signe Snortland 701-250-4242, ext. 3619 Revision of Federal Register Notice Published on 01/06/2006: Correction to Comment Period from 02/21/2006 to 02/28/2006.

Dated: January 24, 2006.
Ken Mittelholtz,
Environmental Protection Specialist, Office of Federal Activities.

[FR Doc. E6-1043 Filed 1-26-06; 8:45 am]

BILLING CODE 6560-50-P